DEPARTMENT OF COMMERCE

National Oceanic and Atmospheric Administration

RIN 0648-XC632

Marine Mammals; File No. 14809

AGENCY: National Marine Fisheries Service (NMFS), National Oceanic and Atmospheric Administration (NOAA), Commerce.

ACTION: Notice; receipt of application.

SUMMARY: Notice is hereby given that Douglas Nowacek, Ph.D., Duke University—Marine Laboratory, 135 Duke Marine Lab Rd, Beaufort, NC 28516, has applied in due form for a permit to conduct research on 34 cetacean species.

DATES: Written, telefaxed, or email comments must be received on or before May 23, 2013.

ADDRESSES: The application and related documents are available for review by selecting “Records Open for Public Comment” from the Features box on the Applications and Permits for Protected Species (APPS) home page, https://apps.nmfs.noaa.gov, and then selecting File No. 14809 from the list of available applications.

These documents are also available upon written request or by appointment in the following offices: see SUPPLEMENTARY INFORMATION.

Written comments on this application should be submitted to the Chief, Permits and Conservation Division, at the address listed above. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Amy Hapeman, (301)427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant is requesting a five-year permit to conduct comparative research on cetaceans in the North Atlantic, North Pacific and Southern Oceans. Methods to be used include suction cup tagging, acoustic playbacks, passive acoustics, biopsy sampling, photo-identification, and behavioral observations. The applicant proposes to take three endangered cetacean species: humpback (Megaptera novaeangliae), sperm (Physeter macrocephalus), and southern right (Eubalaena australis) whales, as well as 31 cetacean species that are not listed as threatened or endangered. Of the 25 species that would be targeted for tagging and active acoustic playbacks, a maximum of 50 individuals of each species or stock could be tagged and exposed to playbacks annually. The primary research objectives are to: (1) document baseline foraging and social behavior of cetacean species under different ecological conditions; (2) place these behaviors in a population-level context; and (3) determine how these species respond to various natural sound sources. Specifically, the applicant is interested in the influence of acoustic stimuli on baseline behavioral patterns and behavioral variation between individuals and populations.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Documents may be reviewed in the following locations:

Permits and Conservation Division, Office of Protected Resources, NMFS, 1315 East-West Highway, Room 13705, Silver Spring, MD 20910; phone (301)427-8401; fax (301)713-0376;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)944-2200; fax (808)973-2941;

Northeast Region, NMFS, 55 Great Republic Drive, Gloucester, MA 01930; phone (978)281-9328; fax (978) 281-9394; and

Southeast Region, NMFS, 263 13th Avenue South, Saint Petersburg, FL 33701; phone (727)824-5312; fax (727)824-5309.

Dated: April 18, 2013.
P. Michael Payne,
Chief, Permits and Conservation Division, Office of Protected Resources, National Marine Fisheries Service.

[FR Doc. 2013-09485 Filed 4-22-13; 8:45 am]

BILLING CODE 3510-22-P